DEPARTMENT OF TRANSPORTATION

Bureau of Transportation Statistics

Advisory Council on Transportation Statistics; Notice of Meeting

AGENCY: Research and Innovative Technology Administration, U.S. Department of Transportation.

ACTION: Notice.

This notice announces, pursuant to Section 10(a)(2) of the Federal Advisory Committee Act (FACA) (Pub. L. 72-363; 5 U.S.C. app. 2), a meeting by Web conference of the Advisory Council on Transportation Statistics (ACTS). This 90 minute Web conference will be held on Friday, May 14, 2010, from 1 p.m. to 2:30 p.m. EST.

Section 5601(o) of the Safe, Accountable, Flexible, Efficient Transportation Equity Act: A Legacy for Users (SAFETEA-LU) directs the U.S. Department of Transportation to establish an Advisory Council on Transportation Statistics subject to the Federal Advisory Committee Act (5 U.S.C., App. 2) to advise the Director of BTS on the quality, reliability, consistency, objectivity, and relevance of transportation statistics and analyses collected, supported, or disseminated by the Bureau and the Department.

The following is a summary of the Web conference tentative agenda: (1) Welcome by RITA Administrator and introduction of council members; (2) Meeting purpose and agenda review; (3) Overview of ACTS purpose, roles, and responsibilities; (4) Brief ethics review; (5) Overview of the Bureau of Transportation Statistics organization, management, mission, and plans related to the Secretary's strategic goals; and (6) Council Members' questions and discussion regarding next steps. Participation in the Web conference is open to the public, but the limited number of conference telephone lines will be available on a first come, first served basis. Members of the public who wish to participate must notify Chanel Winston at chanel.winston@dot.gov, not later than April 25, 2010, at which time the Web conference URL and teleconference phone number will be provided. Members of the public may present oral statements at the meeting with the approval of Steven D. Dillingham, Director of the Bureau of Transportation Statistics. Non-committee members wishing to present oral statements or obtain information should contact Ms. Winston via email no later than April 27, 2010.

Questions about the agenda or written comments may be emailed or submitted by U.S. Mail to: U.S. Department of Transportation, Research and Innovative Technology Administration, Bureau of Transportation Statistics, Attention: Chanel Winston, 1200 New Jersey Avenue, SE., Room # E34-455, Washington, DC 20590, or faxed to (202) 366-1270. BTS requests that written comments be received by April 30, 2010.

Notice of this meeting is provided in accordance with the FACA and the General Services Administration regulations (41 CFR part 102-3) covering management of Federal advisory committees.

Issued in Washington, DC, on the 2nd day of April 2010.
Steven D. Dillingham,
Director, Bureau of Transportation Statistics

[FR Doc. 2010-8109 Filed 4-8-10; 8:45 am]

BILLING CODE 4910-HY-P